DEPARTMENT OF THE INTERIOR

National Park Service

Notice of Inventory Completion: Syracuse University, Syracuse, NY

AGENCY: National Park Service, Interior.

ACTION: Notice.

Notice is here given in accordance with the Native American Graves Protection and Repatriation Act (NAGPRA), 25 U.S.C. 3003, of the completion of an inventory of human remains in the possession of Syracuse University, Syracuse, NY. The human remains were removed from Onondaga County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Syracuse University professional staff in consultation with representatives of the Onondaga Nation of New York.

In 1987, human remains representing a minimum of two individuals were removed from the Bloody Hill II Site also known as the Weston Site located on Gates Road in the Town of Pompey, Onondaga County, NY, during archeological excavations designed to mitigate development of the property on Gates Road. The excavation was conducted by Dr. Thomas Newman acting as an independent contractor under a contract carried out by the State University of New York (SUNY) College of Environmental Science and Forestry at Syracuse. In 1989, Dr. Newman mailed two boxes to Dr. Mark Fleishman at Syracuse University. In 2002, the boxes were found unopened in a lab by Dr. Douglas Armstrong. Shortly after discovery, the boxes were taken to the Onondaga Nation where they were opened jointly by Dr. Armstrong and the Onondaga Nation Chief Paul Waterman. Each box contained fragmentary human remains in a soil matrix. No known individuals were identified. No associated funerary objects are present.

The Bloody Hill II Site is a known historic site with direct historical links to the Onondaga Nation. The site dates to the period A.D. 1663-1682 (as reported by James Tuck and James Bradley). Based on bioarcheological analysis, these individuals have been determined to be two Native American females. The human remains are incomplete and fragmentary and include the clay matrix in which the individuals were found. Both individuals are from the definitively Onondaga cultural context from the Weston (Bloody Hill II) site. Present-day descendants of the Onondaga are represented by the Onondaga Nation of New York.

Officials of Syracuse University have determined that, pursuant to 25 U.S.C. 3001 (9-10), the human remains described above represent the physical remains of two individuals of Native American ancestry. Officials of Syracuse University also have determined that, pursuant to 25 U.S.C. 3001 (2), there is a relationship of shared group identity that can be reasonably traced between the Native American human remains and the Onondaga Nation of New York.

Representatives of any other Indian tribe that believes itself to be culturally affiliated with the human remains should contact Douglas Armstrong, Archaeological Collections Facility, Anthropology Department, 209 Maxwell Hall, Syracuse University, Syracuse, NY 13244, telephone (315) 443-2405, before October 22, 2009. Repatriation of the human remains to the Onondaga Nation of New York may proceed after that date if no additional claimants come forward.

The Syracuse University is responsible for notifying the Onondaga Nation of New York that this notice has been published.

Dated: September 8, 2009
Sherry Hutt,
Manager, National NAGPRA Program.

[FR Doc. E9-22778 Filed 9-21-09; 8:45 am]

BILLING CODE 4312-50-S